DEPARTMENT OF TRANSPORTATION

Federal Aviation Administration

14 CFR Part 39

[Docket No. 2000-SW-58-AD; Amendment 39-12061; AD 2000-26-11]

RIN 2120-AA64

Airworthiness Directives; Agusta S.p.A. Model A109E Helicopters

AGENCY: Federal Aviation Administration, DOT.

ACTION: Final rule; request for comments.

SUMMARY: This amendment adopts a new airworthiness directive (AD) for Agusta S.p.A. (Agusta) Model A109E helicopters. This action requires replacing certain tail rotor blades with airworthy tail rotor blades. This amendment is prompted by a tail rotor blade (blade) failure that caused a high vibration level in the helicopter. Investigation revealed that the failure was due to a change in the manufacturing process for an identified production lot of blades. This condition, if not corrected, could result in a failure of a blade and subsequent loss of control of the helicopter.

DATES: Effective January 16, 2001.

Comments for inclusion in the Rules Docket must be received on or before February 27, 2001.

ADDRESSES: Submit comments in triplicate to the Federal Aviation Administration (FAA), Office of the Regional Counsel, Southwest Region, Attention: Rules Docket No. 2000-SW-58-AD, 2601 Meacham Blvd., Room 663, Fort Worth, Texas 76137. You may also send comments electronically to the Rules Docket at the following address: 9-asw-adcomments@faa.gov.

FOR FURTHER INFORMATION CONTACT: Richard Monschke, Aviation Safety Engineer, FAA, Rotorcraft Directorate, Rotorcraft Standards Staff, Fort Worth, Texas 76193-0110, telephone (817) 222-5116, fax (817) 222-5961.

SUPPLEMENTARY INFORMATION: The Ente Nazionale per l'Aviazione Civile (ENAC), the airworthiness authority for Italy, notified the FAA that an unsafe condition may exist on Agusta Model A109E helicopters. Investigation revealed that the blade failure was due to a change in the skin bonding manufacturing process for an identified production lot of blades.

Agusta issued Alert Bollettino Tecnico No. 109EP-13, dated August 3, 2000, which specifies, within 10 hours time-in-service (TIS) or with any abnormal increase in vibratory level, replacing blades, part number (P/N) 109-8132-01-109, serial number (S/N) A5-0130, A5-0131, A5-0224 to A5-0253, excluding A5-0247 and A5-0248, with blades, P/N 109-8132-01-109 or 109-8132-01-107, to ensure the continued airworthiness of these helicopters in Italy. ENAC classified this service bulletin as mandatory and issued AD 2000-393, dated August 8, 2000, to ensure the continued airworthiness of these helicopters in Italy.

This helicopter model is manufactured in Italy and is type certificated for operation in the United States under the provisions of 14 CFR 21.29 and the applicable bilateral airworthiness agreement. Pursuant to this bilateral airworthiness agreement, ENAC has kept the FAA informed of the situation described above. The FAA has examined the findings of ENAC, reviewed all available information, and determined that AD action is necessary for products of this type design that are certificated for operation in the United States.

Since we have identified an unsafe condition that is likely to exist or develop on other Agusta Model A109E helicopters of the same type design registered in the United States, this AD is being issued to prevent failure of a blade. This AD requires replacing certain blades. The short compliance time involved is required because the previously described critical unsafe condition can adversely affect the controllability and structural integrity of the helicopter. Therefore, replacing each blade, P/N 109-8132-01-109, S/N A5-0130, A5-0131, A5-0224 through A5-0246, and A5-0249 through A5-0253, with a blade P/N 109-8132-01-109 or P/N 109-8132-01-107, is required within 10 hours time-in-service, and this AD must be issued immediately.

Since a situation exists that requires the immediate adoption of this regulation, it is found that notice and opportunity for prior public comment hereon are impracticable, and that good cause exists for making this amendment effective in less than 30 days.

The FAA estimates that 20 helicopters will be affected by this AD, that it will take approximately 4 work hours to replace the blades, and that the average labor rate is $60 per work hour. Required parts will cost approximately $10,000 per helicopter. Based on these figures, the total cost impact of the AD on U.S. operators is estimated to be $204,800 based on replacing both blades on all 20 helicopters.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available in the Rules Docket for examination by interested persons. A report that summarizes each FAA-public contact concerned with the substance of this AD will be filed in the Rules Docket.

Commenters wishing the FAA to acknowledge receipt of their mailed comments submitted in response to this rule must submit a self-addressed, stamped postcard on which the following statement is made: “Comments to Docket No. 2000-SW-58-AD.” The postcard will be date stamped and returned to the commenter.

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2000-26-11 Agusta S.p.A.: Amendment 39-12061. Docket No. 2000-SW-58-AD.

Applicability: Model A109E helicopters with tail rotor blade (blade), part number (P/N) 109-8132-01-109, serial number (S/N) A5-0130, A5-0131, A5-0224 through A5-0246, or A5-0249 through A5-0253, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (b) of this AD. The request should include an assessment of the effect of the modification, alteration, or repair on the unsafe condition addressed by this AD; and if the unsafe condition has not been eliminated, the request should include specific proposed actions to address it.

Compliance: Required within 10 hours time-in-service, unless accomplished previously.

To prevent a blade failure and subsequent loss of control of the helicopter, accomplish the following:

(a) Replace each affected blade with an airworthy blade, P/N 109-8132-01-109 or P/N 109-8132-01-107, with an S/N other than those listed in the applicability section of this AD.

Note 2: Agusta Bollettino Tecnico No. 109EP-13, dated August 3, 2000, pertains to the subject of this AD.

(b) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 3: Information concerning the existence of approved alternative methods of compliance with this AD, if any, may be obtained from the Regulations Group.

(c) Special flight permits may be issued in accordance with 14 CFR 21.197 and 21.199 to operate the helicopter to a location where the requirements of this AD can be accomplished.

(d) This amendment becomes effective on January 16, 2001.

Note 4: The subject of this AD is addressed in Ente Nazionale per l'Aviazione Civile (Italy) AD 2000-393, dated August 8, 2000.

Issued in Fort Worth, Texas, on December 21, 2000.
Henry A. Armstrong,
Manager, Rotorcraft Directorate, Aircraft Certification Service.

[FR Doc. 00-33335 Filed 12-28-00; 8:45 am]

BILLING CODE 4910-13-P